NATIONAL SCIENCE FOUNDATION

Membership of the National Science Board's Senior Executive Service Performance Review Board

AGENCY: National Science Foundation.

ACTION: Announcement of membership of the National Science Foundation's Performance Review Board for the Office of Inspector General and the National Science Board Office Senior Executive Service positions.

SUMMARY: This announcement of the membership of the National Science Foundation's Office of Inspector General and National Science Board Office Senior Executive Service Performance Review Board is made in compliance with 5 U.S.C. 4314(c)(4).

ADDRESSES: Comments should be addressed to Division Director, Division of Human Resource Management, National Science Foundation, Room 315, 4201 Wilson Boulevard, Arlington, VA 22230.

FOR FURTHER INFORMATION CONTACT: Ms. Dianne Campbell Krieger at the above address or (703) 292-5194.

SUPPLEMENTARY INFORMATION: The membership of the National Science Board's Senior Executive Service Performance Review Board is as follows:

Diane L. Souvaine, Vice Chair, National Science Board

Dianne Campbell Krieger, Division Director, Division of Human Resource Management

Plus three members to be selected from the IG community.

Dated: October 3, 2016.
Dianne Campbell Krieger,
Division Director, Division of Human Resource Management.

[FR Doc. 2016-24961 Filed 10-17-16; 8:45 am]

BILLING CODE 7555-01-M